DEPARTMENT OF ENERGY

[Number DE-PS07-03ID14489]

Plant Wide Assessments

AGENCY: Idaho Operations Office, DOE.

ACTION: Notice of availability of financial assistance solicitation.

SUMMARY: The U.S. Department of Energy (DOE) Idaho Operations Office (ID) is soliciting the submission of proposals for plant-wide assessments. A plant-wide assessment is a systematic approach to assess plant energy efficiency and identify opportunities for energy reduction in industrial facilities. For a relatively low initial investment, prior experience has shown that companies can identify very significant reductions in annual energy costs from a combination of energy efficiency and productivity improvements and waste reductions. The objective of this solicitation is to continue partnership with energy intensive industries to identify new assessment approaches and methodologies that will lead to substantial improvements in industrial energy efficiency, enhanced competitiveness and reduced environmental impacts.

DATES: The issuance date of Solicitation Number DE-PS07-03ID14489 will be on or about February 28, 2003. The deadline for receipt of applications will be approximately on May 29, 2003.

ADDRESSES: The solicitation in its full text will be available on the Internet at the following URL address: http://e-center.doe.gov. The Industry Interactive Procurement System (IIPS) provides the medium for disseminating solicitations, receiving financial assistance applications and evaluating the applications in a paperless environment. Completed applications are required to be submitted via IIPS. An IIPS “User Guide for Contractors” can be obtained on the IIPS Homepage and then clicking on the “Help” button. Questions regarding the operation of IIPS may be e-mailed to the IIPS Help Desk at IIPS_HelpDesk@e-center.doe.gov

FOR FURTHER INFORMATION CONTACT: Trudy Harmel, Contract Specialist, harmelta@id.doe.gov.

SUPPLEMENTARY INFORMATION: DOE anticipates making up to 10 cooperative agreement awards depending on availability of funds. Individual awards will not exceed $100,000 of DOE funding, and the project timeframe will be no more than one year. The DOE Industrial Technologies Program requires a minimum of fifty per cent (50%) non-federal cost-share for this solicitation to ensure industrial involvement in each of the proposals. There will be no waivers of this cost share requirement. The statutory authority for this program is the U.S. Department of Energy Organization Act (Pub. L. 95-91). The Catalog of Federal Domestic Assistance (CFDA) Number for this program is 81.086.

Issued in Idaho Falls on February 26, 2003.
Michael L. Adams,
Acting Director, Procurement Services Division.

[FR Doc. 03-5150 Filed 3-4-03; 8:45 am]

BILLING CODE 6450-01-P